DEPARTMENT OF LABOR

Employment and Training Administration

[TA-W-38,366]

Jeld Wen, Inc./Bend Millwork Company, Bend, Oregon; Including Contract Employees of Express Personnel Services Employed at Jeld Wen, Inc./Bend Millwork Co., Bend, Oregon; Amended Certification Regarding Eligibility To Apply for Worker Adjustment Assistance

In accordance with section 223 of the Trade Act of 1974 (19 U.S.C. 2273) the Department of Labor issued a Certification of Eligibility to Apply for Worker Adjustment Assistance on January 19, 2001, applicable to workers of Jeld Wen, Inc./Bend Millwork Co., Bend, Oregon. The notice was published in the Federal Register on February 20, 2001 (66 FR 10916).

At the request of the State agency, the Department reviewed the certification for workers of the subject firm. Findings show that the Department inadvertently omitted contract employees of Express Personnel Services that was intended to be covered under this petition investigation. Information provided by the company shows that some employees of Jeld Wen, Inc./Bend Millwork Co., Bend, Oregon were contracted from Express Personnel Services to produce wood mouldings and millwork at the Bend, Oregon facility. Worker separations occurred at Express Personnel Services as a result of worker separations at Jeld Wen, Inc./Bend Millwork Co.

Based on these findings, the Department is amending the certification to include contract workers of Express Personnel Services, Bend, Oregon employed at Jeld Wen, Inc./Bend Millwork Co., Bend, Oregon.

The intent of the Department's certification is to include all workers of Jeld Wen, Inc./Bend Millwork Co. adversely affected by imports.

The amended notice applicable to TA-W-38,366 is hereby issued as follows:

All workers of Jeld Wen, Inc./Bend Millwork Co., Bend, Oregon including contract workers of Express Personnel Services, Bend, Oregon engaged in employment related to the production of wood mouldings and millwork at Jeld Wen, Inc./Bend Millwork Co., Bend, Oregon who became totally or partially separated from employment on or after November 7, 1999 through January 19, 2003 are eligible to apply for adjustment assistance under Section 223 of the Trade Act of 1974.

Signed at Washington, DC this 9th day of April, 2001.
Linda G. Poole,
Certifying Officer, Division of Trade Adjustment Assistance.

[FR Doc. 01-9720 Filed 4-18-01; 8:45 am]

BILLING CODE 4510-30-M